FEDERAL COMMUNICATIONS COMMISSION

[DA 24-497; FR ID 223701]

Media Bureau Announces the Incorporation of 2020 U.S. Census Population Data Into the Commission's TVStudy Software and Requirement To Utilize Such Data Effective August 1, 2024

AGENCY: Federal Communications Commission.

ACTION: Notice.

SUMMARY: The Media Bureau announces, that effective August 1, 2024 the Commission's TVStudy software will incorporate the most recent U.S. Census Bureau decennial Census block and population data (2020 Census Data). All television broadcast applications filed on or after August 1, 2024, will be required to utilize 2020 Census Data for purposes of conducting interference analyses. Failure to do so will require amendment and may result in dismissal of applications as defective.

DATES: Beginning August 1, 2024, applications must utilize 2020 Census Data.

FOR FURTHER INFORMATION CONTACT: Kevin Harding, Kevin.Harding@fcc.gov, 202-418-7077 or Mark Colombo (technical questions), Mark.Colombo@fcc.gov, (202) 418-7611 of the Video Division, Media Bureau.

SUPPLEMENTARY INFORMATION: This is a synopsis of the Media Bureau's Public Notice, DA 24-497, released on May 28, 2024. The full text of this document is available for download at https://www.fcc.gov/document/media-bureau-incorporates-2020-us-census-data-tvstudy. To request materials in accessible formats (braille, large print, computer diskettes, or audio recordings), please send an email to FCC504@fcc.gov or call the Consumer & Government Affairs Bureau at (202) 418-0530 (VOICE), (202) 418-0432 (TTY).

Synopsis

The Media Bureau announces, pursuant to sections 73.616(d)(1) and 73.620 of the Commission's rules, 47 CFR 73.616(d)(1) and 73.620, that effective August 1, 2024 the Commission's TVStudy software will incorporate the most recent U.S. Census Bureau decennial Census block and population data (2020 Census Data). The Commission's TVStudy software is used to perform coverage and interference analysis of television stations according to the procedures set forth in OET Bulletin No. 69: “Longley-Rice Methodology for Evaluating TV Coverage and Interference” in connection with the preparation and processing of full power rulemaking petitions to allot channels to the Table of TV Allotments and applications prepared by all television licensees and permittees when they seek to modify their facilities.

Therefore all television broadcast applications filed on or after August 1, 2024, will be required to utilize 2020 Census Data for purposes of conducting interference analyses. Failure to do so will require amendment and may result in dismissal of applications as defective.

This action is taken by the Chief, Media Bureau, pursuant to authority delegated by sections 0.61 and 0.283 of the Commission's rules. 47 CFR 0.61 and 0.283.

Federal Communications Commission.
Thomas Horan,
Chief of Staff, Media Bureau.

[FR Doc. 2024-12363 Filed 6-5-24; 8:45 am]

BILLING CODE 6712-01-P